DEPARTMENT OF COMMERCE

International Trade Administration

[A-570-170]

Aluminum Containers, Pans, Trays, and Lids from the People's Republic of China: Postponement of Preliminary Determination in the Less-Than-Fair Value Investigation

AGENCY: Enforcement and Compliance, International Trade Administration, Department of Commerce.

DATE: Applicable October 8, 2024.

FOR FURTHER INFORMATION CONTACT: Matthew Palmer or Kate Fracke, AD/CVD Operations, Office III, Enforcement and Compliance, International Trade Administration, U.S. Department of Commerce, 1401 Constitution Avenue NW, Washington, DC 20230; telephone: (202) 482-1678 or (202) 482-3299, respectively.

SUPPLEMENTARY INFORMATION:

Background

On June 5, 2024, the U.S. Department of Commerce (Commerce) initiated a less-than-fair-value (LTFV) investigation of imports of aluminum containers, pans, trays, and lids from the People's Republic of China.¹ On July 22, 2024, Commerce tolled certain deadlines in this administrative proceeding by seven days.² Currently, the preliminary determination is due no later than October 30, 2024.

¹ See Disposable Aluminum Containers, Pans, Trays, and Lids from the People's Republic of China: Initiation of Less-Than-Fair-Value Investigation, 89 FR 49837 (June 12, 2024).

² See Memorandum, “Tolling of Deadlines for Antidumping and Countervailing Duty Proceedings,” dated July 22, 2024.

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 25, 2024, the petitioners ³ submitted a timely request that Commerce postpone the preliminary determination in the LTFV investigation.⁴ The petitioners stated that they requested postponement because “while the one participating mandatory respondent in this proceeding has submitted most of its initial responses to {Commerce's} antidumping questionnaire, Petitioners have identified deficiencies in these responses that must be remedied in advance of {Commerce's} issuance of its preliminary determination.” ⁵

³ The petitioners are the Aluminum Foil Container Manufacturers Association and the following individual member companies: Durable Packaging International; D&W Fine Pack, LLC; Handi-foil Corp.; Penny Plate, LLC; Reynolds Consumer Products, LLC; Shah Foil Products, Inc.; Smart USA, Inc.; and Trinidad/Benham Corp (collectively, the petitioners).

⁴ See Petitioners' Letter, “Petitioners' Request for Postponement of the Preliminary Determination,” dated September 25, 2024.

⁵ Id.

For the reason stated above and because there are no compelling reasons to deny the request, Commerce, in accordance with section 733(c)(1)(A) of the Act, is postponing the deadline for the preliminary determination by 50 days (i.e., 190 days after the date on which this investigation was initiated). As a result, Commerce will issue its preliminary determination no later than December 19, 2024.⁶ In accordance with section 735(a)(1) of the Act and 19 CFR 351.210(b)(1), the deadline for the final determination of this investigation will continue to be 75 days after the date of the preliminary determination, unless postponed at a later date.

⁶ This deadline has been tolled by seven days. See fn2, supra.

This notice is issued and published pursuant to section 733(c)(2) of the Act and 19 CFR 351.205(f)(1).

Dated: October 2, 2024.
Ryan Majerus,
Deputy Assistant Secretary for Policy and Negotiations performing the non-exclusive functions and duties of the Assistant Secretary for Enforcement and Compliance.

[FR Doc. 2024-23245 Filed 10-7-24; 8:45 am]

BILLING CODE 3510-DS-P